DEPARTMENT OF AGRICULTURE

Animal and Plant Health Inspection Service

[Docket No. APHIS-2010-0050]

Animal Traceability; Public Meetings

AGENCY: Animal and Plant Health Inspection Service, USDA.

ACTION: Notice of public meetings.

SUMMARY: This is a notice to inform the public of upcoming meetings in Salt Lake City, UT, and Fort Worth, TX, to provide an opportunity for stakeholders to offer their input on the new framework being developed for animal disease traceability. The meetings are being organized by the Animal and Plant Health Inspection Service. Additional meetings are currently being planned and will be announced in a future notice.

DATES: The meetings will be held on June 24 and July 1, 2010, from 8 a.m. to 4 p.m. each day.

ADDRESSES: The public meeting on June 24, 2010, will be held in the Bryce Ballroom, Sheraton Salt Lake City Hotel, 150 West 500 South, Salt Lake City, UT 84101. The public meeting on July 1, 2010, will be held at the Holiday Inn Dallas-Fort Worth Airport South, 14320 Centre Station Drive, Fort Worth, TX 76155.

FOR FURTHER INFORMATION CONTACT: Mr. Neil Hammerschmidt, Program Manager, Animal Disease Traceability, VS, APHIS, 4700 River Road Unit 46, Riverdale, MD 20737-1231; (301) 734-5571.

SUPPLEMENTARY INFORMATION: The U.S. Department of Agriculture (USDA) is currently developing a new, flexible framework for animal disease traceability in the United States. In keeping with its commitment to partnering with States, Tribal Nations, and industry to address many of the details of the infrastructure of this program, including possible regulations, the USDA took the initial step of hosting a State/Tribal forum on animal disease traceability in Kansas City, MO, on March 18 and 19, 2010. Information on the proceedings of the State/Tribal forum is available to the public for review and comment at (http://www.aphis.usda.gov/traceability/forum/index.shtml). In addition, we hosted three public meetings to discuss animal disease traceability. The meetings took place in Kansas City, MO, Riverdale, MD, and Denver, CO, on May 11, May 13, and May 17, 2010, respectively. We are now planning to host two additional public meetings, which will take place in Salt Lake City, UT, on June 24, 2010, and Fort Worth, TX, on July 1, 2010 (see ADDRESSES).

Tentative topics to be discussed at the upcoming meetings include:

1. The framework for a proposed animal disease traceability rule.

2. Specific details that would help form the animal disease traceability rule.

Written statements on meeting topics, as well as on the proceedings of the March 2010 State/Tribal forum, may be filed with the USDA through July 30, 2010, via the Federal eRulemaking Portal at (http://www.regulations.gov/fdmspublic/component/main?main=DocketDetail&d=APHIS-2010-0050) or by sending them to the person listed under FOR FURTHER INFORMATION CONTACT. Please refer to Docket No. APHIS-2010-0050 when submitting your statements.

For the meeting at the Sheraton Salt Lake City Hotel, there will be complimentary parking, as well as shuttle service to and from Salt Lake International Airport.

Done in Washington, DC, this 9th day of June 2010.

Kevin Shea
Acting Administrator, Animal and Plant Health Inspection Service.

[FR Doc. 2010-14245 Filed 6-11-10; 12:36 pm]

BILLING CODE 3410-34-S